DEPARTMENT OF COMMERCE

National Oceanic and Atmospheric Administration

50 CFR Part 300

[Docket No. 130717632-4285-02]

RIN 0648-XD504

International Fisheries; Pacific Tuna Fisheries; 2014 Bigeye Tuna Longline Fishery Closure in the Eastern Pacific Ocean

AGENCY: National Marine Fisheries Service (NMFS), National Oceanic and Atmospheric Administration (NOAA), Commerce.

ACTION: Temporary rule; fishery closure.

SUMMARY: Because the 2014 catch limit of 500 metric tons is expected to be reached, NMFS is closing the U.S. pelagic longline fishery for bigeye tuna for vessels over 24 meters in overall length in the eastern Pacific Ocean (EPO) through December 31, 2014. This action is necessary to prevent the fishery from exceeding the applicable catch limit established by the Inter-American Tropical Tuna Commission (IATTC) in Resolution C-13-01, which governs tuna conservation in the EPO from 2014-2016.

DATES: Effective October 31, 2014, through December 31, 2014.

FOR FURTHER INFORMATION CONTACT: Rachael Wadsworth, NMFS West Coast Region, 562-980-4036.

SUPPLEMENTARY INFORMATION: Pelagic longline fishing in the EPO is managed, in part, under the Tuna Conventions Act of 1950 (Act), 16 U.S.C. 951-962. Under the Act, NMFS must publish regulations to carry out recommendations of the Inter-American Tropical Tuna Commission (IATTC) that have been approved by the Department of State (DOS). The United States is a member of the IATTC, which was established under the Convention for the Establishment of an Inter-American Tropical Tuna Commission signed in 1949 (Convention) to provide an international agreement to ensure the effective international conservation and management of highly migratory species of fish in the IATTC Convention Area.

The IATTC Convention Area includes the waters of the eastern Pacific Ocean (EPO) bounded by the coast of the Americas, the 50° N. and 50° S. parallels, and the 150° W. meridian. Regulations governing fishing by U.S. vessels in accordance with the Act appear at 50 CFR part 300, subpart C. Those regulations implement recommendations of the IATTC for the conservation and management of highly migratory fish resources in the EPO.

The IATTC adopted Resolution C-13-01, which establishes an annual catch limit of bigeye tuna for large U.S. longline vessels. For calendar years 2014, 2015, and 2016, the catch of bigeye tuna by longline gear in the IATTC Convention Area by fishing vessels of the United States that are over 24 meters in overall length is limited to 500 metric tons per year. With the approval of the DOS, NMFS implemented this catch limit by notice-and-comment rulemaking under the Act (79 FR 19487, April 9, 2014, and codified at 50 CFR 300.25).

NMFS monitored the retained catches of bigeye tuna using logbook data submitted by vessel captains and other available information from the longline fisheries in the IATTC Convention Area, and determined that the 2014 catch limit is expected to be reached on October 31, 2014. In accordance with 50 CFR 300.25(b), this Federal Register notice announces that the U.S. longline fishery for bigeye tuna in the IATTC Convention Area will be closed for vessels over 24 meters in overall length starting on October 31, 2014, through the end of the 2014 calendar year. The 2015 fishing year is scheduled to open on January 1, 2015. The bigeye tuna catch limit for longline vessels over 24 meters in overall length for 2015 will be 500 metric tons.

During the closure, a U.S. fishing vessel over 24 meters in overall length may not be used to retain on board, transship, or land bigeye tuna captured by longline gear in the IATTC Convention Area, except as follows:

• Any bigeye tuna already on board a fishing vessel upon the effective date of the prohibitions may be retained on board, transshipped, and/or landed, to the extent authorized by applicable laws and regulations, provided that they are landed within 14 days after the prohibitions become effective, that is, by November 14, 2014.

• In the case of a vessel that has declared to NMFS that the current trip type is shallow-set longlining, the 14-day limit is waived, but the number of bigeye tuna retained on board, transshipped, or landed must not exceed the number on board the vessel upon the effective date of the prohibitions, as recorded by the NMFS observer on board the vessel.

• Bigeye tuna caught by longline gear used on a vessel of the United States over 24 meters in the IATTC Convention Area may not be transshipped to a fishing vessel unless that fishing vessel is operated in compliance with a valid permit issued under 50 CFR 660.707 or 665.801 (the rule implementing Resolution C-13-1 incorrectly cited § 665.21, which has been re-codified as § 665.801).

• A fishing vessel of the United States over 24 meters, other than a vessel for which a declaration has been made to NMFS that the current trip is shallow-setting, may not be used to fish in the Pacific Ocean using longline gear both inside and outside the IATTC Convention Area during the same fishing trip, with the exception of a fishing trip during which the prohibitions were put into effect.

• If a vessel over 24 meters that is not on a declared shallow-set trip is used to fish in the Pacific Ocean using longline gear outside the IATTC Convention Area and the vessel enters the IATTC Convention Area at any time during the same fishing trip, the longline gear on the fishing vessel must be stowed in a manner so as not to be readily available for fishing. Specifically, the hooks, branch lines, and floats must be stowed and not available for immediate use, and any power-operated mainline hauler on deck must be covered in such a manner that it is not readily available for use.

Classification

There is good cause to waive prior notice and opportunity for public comment pursuant to 5 U.S.C. 553(b)(B). This action is based on the best available information and is necessary for the conservation and management of bigeye tuna. Compliance with the notice and comment requirement would be impracticable and contrary to the public interest because NMFS would be unable to ensure that the 2014 bigeye tuna catch limit applicable to large longline vessels is not exceeded. The annual catch limit is an important mechanism to ensure that the United States complies with its international obligations in preventing overfishing and managing the fishery at optimum yield. Moreover, NMFS previously solicited public comments on the rule that established the catch limit (79 FR 19487, April 9, 2014), including a provision for issuing a notice to close the fishery, if necessary, to prevent exceeding the catch limit. For the same reasons, there is good cause to establish an effective date less than 30 days after date of publication of this notice.

This action is required by § 300.25(b) and is exempt from review under Executive Order 12866.

Authority: 16 U.S.C. 951-962 et seq.

Dated: October 15, 2014.
Alan D. Risenhoover,
Director, Office of Sustainable Fisheries, National Marine Fisheries Service.

[FR Doc. 2014-25293 Filed 10-21-14; 4:15 pm]

BILLING CODE 3510-22-P